DEPARTMENT OF ENERGY

Federal Energy Regulatory Commission

Notice of Application for Approval of 1997 Pacific Northwest Coordination Agreement as a Headwater Benefits Settlement Agreement, and Soliciting Comments, Motions To Intervene, and Protests

May 17, 2000.

Take notice that the following hydroelectric application has been filed with the Commission and is available for public inspection:

a. Application Type: Coordination Agreement as Headwater Benefits Settlement Agreement.

b. Docket No: HB02-00-1.

c. Date Filed: February 2, 2000.

d. Applicant: Public Utility District No. 1 of Chelan County, Washington on its own; and eight other non-federal parties to the agreement.

e. Name of Project: 1997 Pacific Northwest Coordination Agreement (PNCA).

f. Project Location: PNCA covers ten non-federal hydropower projects licensed by the Commission in Flathead, and Sanders Counties in Montana, Bonner County in Idaho, Chelan, Douglas, and Pend Oreille Counties in Washington, and Lane and Clackamas Counties in Oregon.

g. Filed Pursuant to: 18 CFR 11.14(a)(1) and Rule 602 of the Commission's Rules of Practice and Procedure.

h. Applicant Contact: Mr. Roger A. Braden, General Manager, Public Utility District No. 1 of the Chelan County, P.O. Box 1231, Wenatchee, WA 99807-1231. Tel: (509) 663-8121.

i. FERC Contact: Any questions on this notice should be addressed to Vedula Sarma at (202) 219-3273 or by e-mail at vedula.sarma@ferc.fed.us.

j. Deadline for filing comments and/or motions: June 23, 2000.

Please include the docket number (HB02-00-1) on any comments or motions filed.

k. Description of filing: The 1997 PNCA is intended to supersede and replace the 1964 PNCA previously approved by the Commission, for the coordinated operation of a system publicly and privately owned hydroelectric generating plants and related transmission facilities through the year 2024. Section 12 of the 1997 PNCA, just like its predecessor, provides a method to calculate headwater benefits payments based upon coordinated storage releases from upstream reservoirs controlled by dams in the United States. The payments provided by section 13 are intended to constitute full satisfaction of obligations under section 10(f) of the Federal Power Act.

l. Location of the Application: A copy of the application is available for inspection and reproduction at the Commission's Public Reference Room, located at 888 First Street NE, Room 2A, Washington, DC 20426, or by calling (202) 208-1371. This filing may be viewed on http://www.ferc.fed.us/online/rims.htm [call (202) 208-2222 for assistance]. A copy is also available for inspection and reproduction at the address in item g above.

m. Individuals desiring to be included on the Commission's mailing list should so indicate by writing to the Secretary of the Commission, David P. Boergers, 888 First Street NE, Washington DC 20426.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS,″, “PROTEST”, or “MOTION TO INTERVENE”, as applicable, and the Project Number of the particular application to which the filing refers. Any of the above-named documents must be filed by providing the original and the number of copies provided by the Commission's regulations to: The Secretary, Federal Energy Regulatory Commission, 888 First Street NE, Washington DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-12858 Filed 5-22-00; 8:45 am]

BILLING CODE 6717-01-M